ENVIRONMENTAL PROTECTION AGENCY

40 CFR Parts 87

[EPA-HQ-OAR-2010-0687; FRL-9678-1]

RIN 2060-AO70

Control of Air Pollution From Aircraft and Aircraft Engines; Emission Standards and Test Procedures

Correction

In rule document 2012-13828 appearing on pages 36341-36386 in the issue of Monday, June 18, 2012, make the following corrections:

§ 87.23 [Corrected]

1. On page 36382, in § 87.23, the table titled “Table 3 to § 87.23—Tier 6 NOX Standards for New Subsonic Turbofan or Turbojet Engines with Rated Output Above 26.7 kN” should read as set forth below:

Table 3 to § 87.23—Tier 6 NOX Standards for New Subsonic Turbofan or Turbojet Engines With Rated Output Above 26.7 kN
If the rated pressure ratio is— | and the rated output (in kN) is— | The NOX emission standard (in g/kN rated output) is—
rPR ≤ 30 | 26.7 < rO ≤ 89 | 38.5486 + 1.6823·rPR - 0.2453·rO − 0.00308·rPR·rO
| rO > 89 | 16.72 + 1.4080·rPR
30 < rPR < 82.6 | 26.7 < rO ≤ 89 | 46.1600 + 1.4286·rPR − 0.5303·rO + 0.00642·rPR·rO
| rO > 89 | −1.04 + 2.0·rPR
rPR ≥ 82.6 | all | 32 + 1.6·rPR

2. On page 36383, in § 87.23, the table titled “Table 4 to § 87.23—Tier 8 NOX Standards for New Subsonic Turbofan or Turbojet Engines with Rated Output Above 26.7 kN” should read as set forth below:

Table 4 to § 87.23—Tier 8 NOX Standards for New Subsonic Turbofan or Turbojet Engines With Rated Output Above 26.7 kN
If the rated pressure ratio is— | and the rated output (in kN) is— | The NOX emission standard (in g/kN rated output) is—
rPR ≤ 30 | 26.7 < rO ≤ 89 | 40.052 + 1.5681·rPR − 0.3615·rO - 0.0018·rPR·rO
| rO > 89 | 7.88 + 1.4080·rPR
30 < rPR < 104.7 | 26.7 < rO ≤ 89 | 41.9435 + 1.505·rPR − 0.5823·rO + 0.005562·rPR·rO
| rO > 89 | −9.88 + 2.0·rPR
rPR ≥ 104.7 | all | 32 + 1.6·rPR

[FR Doc. C1-2012-13828 Filed 10-30-12; 8:45 am]

BILLING CODE 1505-01-D